DEPARTMENT OF ENERGY

Federal Energy Regulatory Commission

[Project No. 4718-039]

Cocheco Falls Associates; Notice Soliciting Scoping Comments

Take notice that the following hydroelectric application has been filed with the Commission and is available for public inspection.

a. Type of Application: Subsequent Minor License.

b. Project No.: 4718-039.

c. Date Filed: December 29, 2020.

d. Submitted By: Cocheco Falls Associates (CFA).

e. Name of Project: Cocheco Falls Dam Project.

f. Location: On the Cocheco River in the city of Dover, Strafford County, New Hampshire. The project does not occupy any federal land.

g. Filed Pursuant to: Federal Power Act, 16 U.S.C. 791(a)—825(r).

h. Applicant Contact: Mr. John Webster, Cocheco Falls Associates, P.O. Box 178, South Berwick, ME 03908; Phone at (207) 384-5334, or email at Hydromagnt@gwi.net.

i. FERC Contact: Amy Chang at (202) 502-8250, or amy.chang@ferc.gov.

j. Deadline for filing scoping comments: July 8, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Cocheco Falls Dam Project (P-4718-039).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing Cocheco Falls Dam Project consists of: (1) A 150-foot-long, 13.5-foot-high stone masonry arch dam that includes the following sections: (a) A 4-foot-long left abutment section; (b) a 140-foot-long spillway section with 24-inch-high flashboards, a 5-foot-wide, 10-foot-high low-level outlet gate, and a crest elevation of 36.25 feet National Geodetic Vertical Datum of 1929 (NGVD29) at the top of the flashboards; and (c) a 6-foot-long right abutment section with a 4-foot-wide, 9-foot-high debris sluice gate; (2) an impoundment with a surface area of 20 acres and a storage capacity of 150 acre-feet at an elevation of 36.25 feet NGVD29; (3) a 64-foot-wide, 10-foot-high intake structure equipped with a trashrack with 1-inch clear bar spacing; (4) an 8.5-foot-diameter, 184-foot-long gated steel penstock that trifurcates into three 5-foot-diameter, 8-foot-long sections, each controlled by a 5-foot-diameter butterfly valve; (5) a 40-foot-long, 40-foot-wide concrete and brick masonry powerhouse containing three 238-kW vertical Flygt submersible turbine-generator units for a total installed capacity of 714 kW; (6) a 40-foot-long, 40-foot-wide tailrace that discharges into the Cocheco River; (7) a 0.48/34.5-kilovolt (kV) step-up transformer and a 1,000-foot-long, 34.5-kV underground transmission line that connects the project to the local utility distribution system; and (8) appurtenant facilities.

CFA voluntarily operates the project in a run-of-river mode using an automatic pond level control system to regulate turbine operation, such that outflow from the project approximates inflow. The project creates an approximately 200-foot-long bypassed reach of the Cocheco River.

Downstream fish passage is provided by a bypass facility located on the left side of the dam that consist of a 5.6-foot-wide, 7-foot-long fish collection box, a trashrack with 6-inch clear bar spacing, and a 24-inch-diameter PVC fish passage pipe. Upstream fish passage is provided by a Denil fish ladder located on the right side of the dam. The Denil fish ladder is owned and maintained by the New Hampshire Fish and Game Department, and is not a project facility.

Article 25 of the current license, as amended on September 24, 2002, requires a minimum flow release to the bypassed reach of: (1) 20 cubic feet per second (cfs) through the fish ladder from April 15-June 30; (2) 20 cfs through the trash sluiceway from April 15-June 15, to attract anadromous fish to the fish ladder; and (3) 20 cfs through the downstream fish passage facility from April 15 until ice forms on the river. The average annual energy production from 2014 to 2018 was 1,438 megawatt-hours

CFA proposes to: (1) Continue to operate the project in a run-of-river mode; (2) continue to facilitate upstream and downstream fish passage by providing the minimum flows required by the current license; (3) design and install an upstream eel passage facility at the Denil fish ladder location within 4 years of the effective date of a subsequent license; and (4) consult with the New Hampshire State Historic Preservation Officer before beginning any land-disturbing activities or alterations to known historic structures within the project boundary.

m. In addition to publishing the full text of this document in the Federal Register, the Commission provides all interested persons an opportunity to view and/or print the contents via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. Due to concerns with large gatherings related to COVID-19, we do not intend to conduct a public scoping meeting and site visit in this case. Instead, we are soliciting written comments and suggestions on the preliminary list of issues and alternatives to be addressed in the NEPA document, as described in scoping document 1 (SD1), issued June 8, 2021.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 8, 2021.
Kimberly D. Bose,
Secretary.

[FR Doc. 2021-12378 Filed 6-11-21; 8:45 am]

BILLING CODE 6717-01-P